DEPARTMENT OF COMMERCE

National Oceanic and Atmospheric Administration

15 CFR Part 902

50 CFR Part 622

[Docket No. 071025620-91118-03]

RIN 0648-AW19

Fisheries of the Caribbean, Gulf of Mexico, and South Atlantic; Shrimp Fishery off the Southern Atlantic States; Amendment 7

AGENCY: National Marine Fisheries Service (NMFS), National Oceanic and Atmospheric Administration (NOAA), Commerce.

ACTION: Final rule.

SUMMARY: NMFS issues this final rule to implement Amendment 7 to the Fishery Management Plan for the Shrimp Fishery of the South Atlantic Region (FMP), as prepared and submitted by the South Atlantic Fishery Management Council (Council). For South Atlantic rock shrimp, this final rule renames the rock shrimp permit and endorsement; requires all South Atlantic shrimp permit holders to provide economic data if selected; reinstates all limited access rock shrimp endorsements for those vessel owners who renewed their open access permit in the year in which they failed to renew their limited access endorsement; removes the 15,000-lb (6,804-kg) rock shrimp landing requirement; and reinstates all limited access rock shrimp endorsements lost due to not meeting the landing requirement. NMFS also implements several non-substantive changes in codified text through this final rule. NMFS also informs the public of the approval by the Office of Management and Budget (OMB) of the collection-of-information requirement contained in this final rule and publishes the OMB control number for that collection. The intended effect of this final rule is to improve data collection, reduce permit confusion, and maintain a viable rock shrimp fishery in the South Atlantic region.

DATES: This final rule is effective November 2, 2009.

ADDRESSES: Copies of the Environmental Assessment, the Final Regulatory Flexibility Analysis (FRFA), and the Finding of No Significant Impact may be obtained from Susan Gerhart, Southeast Regional Office, NMFS, 263 13th Avenue South, St. Petersburg, FL 33701; telephone 727-824-5305; fax 727-824-5308.

Written comments regarding the burden-hour estimates or other aspects of the collection-of-information requirements contained in this final rule may be submitted to Rich Malinowski, Southeast Regional Office, NMFS, and by e-mail to David_Rostker@omb.eop.gov, or by fax to 202-395-7285.

FOR FURTHER INFORMATION CONTACT: Susan Gerhart, telephone: 727-824-5305.

SUPPLEMENTARY INFORMATION: The shrimp fishery off the southern Atlantic states is managed under the FMP. The FMP was prepared by the Council and is implemented under the authority of the Magnuson-Stevens Fishery Conservation and Management Act (Magnuson-Stevens Act) by regulations at 50 CFR part 622.

On June 1, 2009, NMFS published a notice of availability for Amendment 7 and requested public comments (74 FR 26170). On June 24, 2009, NMFS published the proposed rule to implement Amendment 7 and requested public comments (74 FR 30034). NMFS approved Amendment 7 on August 19, 2009. The rationale for the measures contained in Amendment 7 is provided in the amendment and the preamble to the proposed rule and is not repeated here.

Comments and Responses

NMFS received 153 public comments on Amendment 7 and the proposed rule, including 1 comment from a governmental agency, 148 comments from individuals (including 145 copies of a form letter sent by individuals), and 4 comments from non-governmental agencies. Six comments were in favor of the measures contained in the amendment and the rule, and the remaining comments, including all those in the form letter, were opposed to the amendment and the rule. The following is a summary of the comments received that were opposed to the amendment and the rule, and NMFS' respective responses.

Comment 1: Commenters who signed the form letter stated that rock shrimping kills juvenile red snapper and grouper; therefore, all shrimping in the EEZ should be eliminated.

Response: No evidence exists that the rock shrimp trawl fleet captures juvenile red snapper. During 2001-2006, NMFS initiated observer coverage of the rock shrimp fishery in the U.S. southeastern Atlantic (east coast). The primary objective of this effort was to estimate catch rates for target and non-target species. Results of this study show rock shrimp comprised 16 percent of the total catch, followed by dusky flounder (13 percent), inshore lizardfish (11 percent), iridescent swimming crab (7 percent), longspine swimming crab (6 percent), spot (5 percent), blotched swimming crab and brown shrimp (3 percent each), and horned searobin and brown rock shrimp (2 percent each). Other finfish species were rock sea bass, bluespotted searobin, red goatfish, and lefteye flounder. Most of these species, with the exception of spot, are not targeted in commercial or recreational fisheries. A summary of bycatch issues for the rock shrimp fishery and a report on the above study can be found in Amendment 7 to the Shrimp FMP.

Confusion about rock shrimp bycatch likely results from evidence that the fishery for penaeid shrimp (pink, white, and brown shrimp) in the Gulf of Mexico catches a high level of juvenile red snapper. However, no evidence exists that the penaeid shrimp fishery in the South Atlantic has the same level of red snapper catch. In fact, the Southeast Area Monitoring and Assessment Program - South Atlantic Coastal Survey has not caught any red snapper during shallow water trawl studies since 2007, and no more than two red snapper in any year during 1995-2007.

Comment 2: One individual stated no permits should be required for rock shrimp fishing because the cost and difficulty of finding rock shrimp effectively regulate the fishery.

Response: Permits have been required in the South Atlantic rock shrimp fishery since 1996. Permits provide NMFS with a vehicle to collect data on fishing activity and catch, and to help enforce regulations for vessels subject to Federal jurisdiction. The data on fishing activity and catch are necessary for the Council and NMFS to comply with the Magnuson-Stevens Act and other applicable laws.

Other Non-Substantive Changes Implemented by NMFS

This final rule corrects a number of non-substantive errors in 50 CFR part 622. In § 622.6, this rule corrects a subject heading that was misidentified as “Gulf and South Atlantic EEZ”, as it should read “South Atlantic EEZ”. In § 622.34, a subject heading is added to paragraph (k)(1) because it had been inadvertently removed in a prior rulemaking. In § 622.41, paragraphs (a)(4)(i)-(iii) are added to paragraph (a)(4), as these paragraphs were inadvertently removed in a prior rulemaking. These corrections are unrelated to the actions taken via Amendment 7.

Classification

The Administrator, Southeast Region, NMFS, determined that Amendment 7 is necessary for the conservation and management of the shrimp fishery and is consistent with the Magnuson-Stevens Act and other applicable laws.

This final rule has been determined to be not significant for purposes of Executive Order 12866.

An FRFA was prepared. The FRFA incorporates the initial regulatory flexibility analysis (IRFA), a summary of the significant economic issues raised by public comments, NMFS responses to those comments, and a summary of the analyses completed to support the action. A copy of the full analysis is available from NMFS (see ADDRESSES). A summary of the FRFA follows.

This final rule will rename the rock shrimp permit and endorsement, require all South Atlantic shrimp permit holders to provide economic data if selected, reinstate all limited access rock shrimp endorsements for those vessel owners who renewed their open access permit in the year in which they failed to renew their limited access endorsement, remove the 15,000-lb (6,804-kg) rock shrimp landing requirement, and reinstate all limited access rock shrimp endorsements lost due to not meeting the landing requirement. The purposes of this final rule are to ensure that sufficient effort remains active to sustain the fishery and its infrastructure and the Council has necessary economic data to satisfy requirements under the Magnuson-Stevens Act and other statutes.

No significant issues associated with the economic analysis were raised through public comment on the proposed rule. A summary of all comments is provided in the previous section of this preamble. No changes were made in the final rule as a result of these comments.

Within the South Atlantic shrimp fisheries, vessels may possess one or more of the following Federal permits: a penaeid shrimp permit, an open access rock shrimp permit, and a limited access rock shrimp endorsement. As of April 2008, NMFS issued 266 open access rock shrimp permits, 620 penaeid shrimp permits, and 155 limited access rock shrimp endorsements. Of the 155 limited access rock shrimp endorsements, 125 were active or renewable and 30 had been terminated. The total number of vessels that possessed one or more of these permits or endorsements was 694, and, thus, this is the maximum number of vessels that could be directly impacted by the actions in this final rule. Of these 694 vessels, 293 vessels also possessed Gulf shrimp moratorium permits, and, therefore, only 401 vessels are unique to the South Atlantic shrimp fisheries.

The fleet of vessels with limited access rock shrimp endorsements is fairly homogeneous with respect to its physical characteristics. The average or typical vessel in this fleet is approximately 20 years old, nearly 73 ft (22.3 m) in length, gross tonnage of 132 tons, with a fuel capacity of approximately 16,000 gallons (60,567 liters), and a hold capacity of more than 63,000 lb (28,576 kg) of shrimp. The average vessel typically uses four nets averaging between 55 and 60 ft (17.2-18.3 m) in length and uses between three and four crew on each trip. More than 90 percent of these vessels are large (60 ft (18.3 m) in length or greater) while less than 9 percent are small (less than 60 ft (18.3 m) in length). More than 87 percent of these vessels have on-board freezing capacity. More than two-thirds of these vessels have steel hulls, while the other vessels are nearly equally split between fiberglass and wood hulls.

Of the 155 vessels with limited access rock shrimp endorsements, 145 were commercially fishing at some point between 2003 and 2007, and 10 vessels with endorsements were not commercially active during these years. All of the commercially inactive vessels are state-registered boats that are older, smaller, and less powerful than the average vessel in the fleet.

Between 2003 and 2007, commercially active vessels with endorsements averaged nearly $284,000 in total revenue per year. These vessels' dependence on landings from the South Atlantic rock shrimp fishery was relatively low, on average, accounting for 7 percent of their total revenue during this time. These vessels were most dependent on revenue from the Gulf shrimp fishery, which, on average, accounted for nearly 46 percent of their total revenue. Revenue from South Atlantic penaeid shrimp landings and Northeast non-shrimp landings were also important, with each representing approximately 22 percent of their total revenue on average. The vast majority of the Northeast non-shrimp revenue came from Atlantic sea scallop landings. Thus, although South Atlantic rock shrimp landings were not unimportant to these vessels' operations, these vessels were considerably more dependent on other fisheries.

The fleet of 694 vessels that possessed one or more South Atlantic shrimp permits or endorsements is very heterogeneous with respect to its physical characteristics. For example, approximately 65 percent of the vessels are large while 35 percent are small. Less than 40 percent have on-board freezing capacity while nearly 60 percent rely on ice for storage purposes. With respect to their hulls, the fleet is approximately evenly split between steel, wood, and fiberglass. On average, this group of vessels is somewhat smaller, older, less technologically advanced and uses less crew and gear relative to vessels that only possess limited access rock shrimp endorsements. Related, between 2003 and 2007, the average total revenue per vessel was $185,000, or 35 percent less than vessels that only possess a limited access rock shrimp endorsement. Further, revenue from the Gulf shrimp, Northeast non-shrimp, and South Atlantic penaeid shrimp fisheries have accounted for 36 percent, 31 percent and 24 percent of total revenue on average during this time. Also, during this time period, the maximum total revenue for a single vessel was approximately $3.7 million.

With respect to the 401 vessels that possessed one or more South Atlantic shrimp permits or endorsements and did not possess a Gulf shrimp moratorium permit, they are also fairly heterogeneous with respect to their physical characteristics. However, on average, they are smaller, older, less technologically advanced and use less crew and gear than the fleet as a whole, and even more so compared to the vessels that only possess a limited access rock shrimp endorsement. For example, nearly 56 percent of these vessels are small, only 10 percent have on-board freezing capacity, and less than 18 percent have steel hulls. Related, between 2003 and 2007, the average total revenue per vessel was only about $135,000, or 27 percent less than the fleet as a whole and 53 percent less than vessels that only possess a limited access rock shrimp endorsement. Since these vessels do not possess a Gulf shrimp moratorium permit and thus cannot participate in the Federal Gulf shrimp fishery, approximately 40 percent of their total revenue comes from both the South Atlantic shrimp and Northeast non-shrimp fisheries respectively, with 15 percent coming from South Atlantic non-shrimp fisheries.

The Small Business Administration defines a small business in the commercial fishing industry as an entity that is independently owned and operated, is not dominant in its field of operation (including its affiliates), and has combined annual receipts not in excess of $4.0 million annually (NAICS codes 114111 and 114112, finfish and shellfish fishing). Based on the annual revenues for the fishery provided above, all shrimp vessels expected to be directly impacted by this final rule are determined, for the purpose of this analysis, to be small entities.

The action to remove the 15,000-lb (6,804-kg) landing requirement will directly affect 27 vessels with active or renewable endorsements, the action to reinstate limited access rock shrimp endorsements lost due to not meeting the landing requirement will directly affect 43 vessels with active or renewable endorsements, the action to reinstate limited access rock shrimp endorsements for those vessel owners who renewed their open access permit in the year in which they failed to renew their limited access endorsement will directly affect 5 vessels with terminated endorsements, and the action to rename the rock shrimp permit and endorsement will directly affect all 125 vessels with active or renewable endorsements and 5 vessels with terminated endorsements. In general, the action to require all South Atlantic shrimp permit holders to provide economic data if selected would apply to all 694 vessels with a South Atlantic penaeid or rock shrimp permit or endorsement. However, since 293 of these vessels possess a Gulf shrimp moratorium permit and therefore must already comply with economic data reporting requirements in that fishery, only 401 vessels will be directly affected by this action. Thus, NMFS determines that this final rule will affect a substantial number of small entities.

The action to remove the 15,000-lb (6,804-kg) landing requirement is expected to directly benefit at least 27 vessels by allowing them to retain their limited access rock shrimp endorsements. Under current regulations, these vessels would be expected to lose their endorsements during the next few years. By retaining their endorsements, these vessels are able to retain the market value of their endorsements, which is estimated to be $5,000. Further, they will retain their ability to participate in the fishery, which in the short term is expected to increase these vessels' average total revenue by only $600 per vessel but could be greater in the long term if they increase their level of participation in the fishery.

The action to reinstate limited access rock shrimp endorsements lost due to not meeting the landing requirement is expected to directly benefit 43 vessels by allowing them to retain their limited access rock shrimp endorsements. By retaining their endorsements, these vessels are able to retain the market value of their endorsements, which is estimated to be $5,000. Further, they will retain their ability to participate in the fishery, which in the short term is expected to increase these vessels' average total revenue by $4,600 per vessel but could be greater in the long term if they increase their level of participation in the fishery.

The action to reinstate limited access rock shrimp endorsements for those vessel owners who renewed their open access permit in the year in which they failed to renew their limited access endorsement is expected to directly benefit 5 vessels by reinstating their endorsements. At present, these vessels' endorsements have been terminated and thus cannot be used to participate in the fishery and in turn have no market value. Reinstatement of these endorsements will allow these vessels to regain the market value of their endorsements, which is estimated to be $5,000. Further, they will regain their ability to participate in the fishery, which in the short term is expected to increase these vessels' average total revenue by $6,000 per vessel but could be greater in the long term if they increase their level of participation in the fishery.

The action to rename the rock shrimp permit and endorsement is expected to directly benefit 130 vessels by reducing the number of permits these vessels must possess and pay for in order to participate in the limited access rock shrimp fishery. The annual benefit is only $10 per vessel and therefore minimal.

The action to require all South Atlantic shrimp permit holders to provide economic data if selected is expected to adversely affect 401 vessels by requiring a sample to provide economic data on an annual basis. However, this reporting requirement would only impose an annual opportunity cost of approximately $15 per vessel. Therefore, this action is not expected to increase these vessels' operating costs and thus would not be expected to decrease their profits.

Three alternatives, including the status quo, were considered for the action to remove the 15,000-lb (6,804-kg) rock shrimp landing requirement. The first alternative, the status quo, would retain the landing requirement. In the long term, retention of the landing requirement would be expected to significantly and permanently reduce the maximum fleet size in the rock shrimp fishery. Specifically, the maximum fleet size under this alternative would only be approximately 37 percent of the Council's desired fleet size and 44 percent of its current fleet size. Such a result would be inconsistent with the Council's objective of retaining sufficient productive capacity in the fishery in order to support the onshore infrastructure. The second alternative to the proposed removal of the landing requirement would have reduced the landing requirement from 15,000 lb (6,804 kg) in at least one out of every four calendar years to 7,500 lb (3,402 kg) in at least one out of every four calendar years. Although this represents a 50-percent reduction in the landings requirement, few additional vessels would be able to meet this requirement relative to the 15,000-lb (6,804-kg) requirement. Therefore, similar to the status quo, this alternative would result in a significant and permanent reduction in the rock shrimp fishery's long-term maximum fleet size. Specifically, the maximum fleet size under this alternative would only be approximately 39 percent of the Council's desired fleet size and 47 percent of its current fleet size. Such a result would be inconsistent with the Council's objective of retaining sufficient productive capacity in the fishery in order to support the onshore infrastructure.

Three alternatives, including the status quo, were considered for the action to reinstate endorsements lost due to not meeting the 15,000-lb (6,804-kg) rock shrimp landing requirement at the end of the 2007 calendar year. The first alternative, the status quo, would not reinstate endorsements lost due to not meeting the 15,000-lb (6,804-kg) rock shrimp landing requirement at the end of the 2007 calendar year. Of the 125 vessels currently possessing active or renewable endorsements, 83 vessels were required to meet the landing requirement by the end of the 2007 calendar year. However, 43 vessels did not meet the landing requirement and thus their endorsements were not eligible for renewal in 2008. Upon these endorsements' termination, the maximum fleet size would be permanently reduced from 125 vessels to 82 vessels. Such a significant and permanent reduction in the maximum fleet size would be inconsistent with the Council's objective of retaining sufficient productive capacity in the fishery in order to support the onshore infrastructure. The second alternative considered for this action would reinstate endorsements to vessels landing at least 7,500 lb (3,402 kg) of rock shrimp in one of four consecutive calendar years. This alternative would only allow three more vessels with active or renewable endorsements to remain in the fishery relative to the no-action alternative. Hence, this alternative did not adequately address the Council's objective.

Three alternatives, including the status quo, were considered for the action to reinstate endorsements lost through failure to renew for vessels that renewed their open access permits. The first alternative, the status quo, would not reinstate endorsements that were lost through failure to renew for vessels that renewed their open access permits. At present, an open access permit is needed to harvest rock shrimp in the EEZ off of North and South Carolina while both the open access permit and the limited access endorsement are needed to harvest rock shrimp in the EEZ off of Georgia and east Florida. Five vessels that previously possessed endorsements renewed their open access permits but failed to simultaneously renew their endorsements. By renewing their open access permits, these vessels indicated that they intended to continue participating in the limited access component of the fishery in the future. Their failure to renew their endorsements at the same time may have been the result of confusion over the application and renewal process associated with the open access permit and the limited access endorsement. The Council does not consider the permanent loss of these endorsements to be an equitable outcome. Further, the unintended loss of these endorsements from the fishery is inconsistent with the Council's objective of retaining sufficient productive capacity in order to support the onshore infrastructure. The second alternative would extend the time allowed to renew endorsements by one calendar year after the effective date of this action. The outcome of this alternative is uncertain as it is dependent on whether the five affected vessel owners take the proper actions within the specified time period. Any vessel owners that did not would not have their vessels' endorsements reinstated, which in turn would result in an unintended and undesired reduction in the maximum fleet size, and, thus, this alternative is also potentially inconsistent with the Council's objective of retaining sufficient productive capacity in order to support the onshore infrastructure.

Two alternatives, including the status quo, were considered for the action to rename the rock shrimp permit and endorsement. At present, an open access permit is needed to harvest rock shrimp in the EEZ off of North and South Carolina while both the open access permit and the limited access endorsement are needed to harvest rock shrimp in the EEZ off of Georgia and east Florida. Five vessels have already lost their endorsements possibly due to confusion associated with the current naming practice and more could be lost in the future. This unintended loss of additional endorsements from the fishery in the future possibly due to vessel owners' confusion with the current naming practice is inconsistent with the Council's objective of retaining sufficient productive capacity in order to support the onshore infrastructure.

Two alternatives, including the status quo, were considered for the action to specify VMS requirements for owners of vessels with limited access rock shrimp endorsements. The alternative to require VMS verification for all vessels with limited access endorsements, which would include those not operating in South Atlantic waters, could cause some vessel owners to relinquish their limited access endorsements, particularly those whose vessels are very small by industry standards and thus technologically incapable of supporting a VMS. Twenty-one vessels would be impacted by this alternative possibly resulting in additional reductions in the number of limited access endorsements. This is inconsistent with the Council's objective of retaining sufficient productive capacity in the fishery in order to support the onshore infrastructure.

Three alternatives, including the status quo, were considered for the action to require all South Atlantic shrimp permit holders to provide economic data if selected. The first alternative, the status quo, would not require South Atlantic shrimp permit holders to provide economic data. At present, economic data are lacking for the South Atlantic shrimp fisheries. The lack of such data makes it difficult for the Council to conduct regulatory impacts analyses that meet the requirements of the Magnuson-Stevens Act, National Environmental Protection Act, the Regulatory Flexibility Act, E.O. 12866, and other Federal statutes. Further, the reauthorized Magnuson-Stevens Act explicitly states that all fishery management plans must indicate all economic information necessary to meet the requirements of the Act. Thus, these data are needed in order for the Council to comply with these various mandates. Furthermore, the lack of such data can lead to potentially misleading information and guidance. Such misinformation can adversely affect decisions made by the Council and NMFS and thereby lead to unforeseen and unintended adverse economic and social consequences on fishery participants. The second alternative would require all shrimp permit holders to provide economic data each year. In effect, this alternative would require a census rather than a sample of permit holders to provide the necessary economic data. A census of permit holders is not required to provide statistically accurate and reliable estimates of important economic variables for the fishery and thus would constitute an unnecessarily onerous time burden on fishery participants.

Copies of the FRFA are available from NMFS (see ADDRESSES).

Section 212 of the Small Business Regulatory Enforcement Fairness Act of 1996 states that, for each rule or group of related rules for which an agency is required to prepare a FRFA, the agency shall publish one or more guides to assist small entities in complying with the rule, and shall designate such publications as “small entity compliance guides.” As part of the rulemaking process, NMFS prepared a fishery bulletin, which also serves as a small entity compliance guide. The fishery bulletin will be sent to all vessel permit holders for the South Atlantic shrimp fishery.

This final rule contains a collection-of-information requirement subject to the Paperwork Reduction Act (PRA) and which has been approved by OMB under control number 0648-0591. NMFS will collect economic data from shrimp vessel owners who operate in Federal waters of the South Atlantic. The public reporting burden for this collection of information is estimated to average 45 minutes per response. This estimate of the public reporting burden includes the time for reviewing instructions, searching existing data sources, gathering and maintaining the data needed, and completing and reviewing the collection of information.

Notwithstanding any other provision of law, no person is required to respond to, nor shall a person be subject to a penalty for failure to comply with, a collection of information subject to the requirements of the PRA unless that collection of information displays a currently valid OMB control number.

List of Subjects

15 CFR Part 902

Reporting and recordkeeping requirements.

50 CFR Part 622

Fisheries, Fishing, Puerto Rico, Reporting and recordkeeping requirements, Virgin Islands.

Dated: September 25, 2009
John Oliver,
Deputy Assistant Administrator for Operations, National Marine Fisheries Service.

For the reasons set out in the preamble, 15 CFR Chapter IX and 50 CFR Chapter VI are amended as follows:

15 CFR Chapter IX

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, the table in paragraph (b), under 50 CFR is amended, by adding in numerical order the entry “622.5(a)(1)(vii)”, to read as follows:

§ 902.1 OMB control numbers assigned pursuant to the Paperwork Reduction Act.

(b) * * *

CFR part or section where the information collection requirement is located | Current OMB control number (All numbers begin with 0648-)
* * * * * |
50 CFR |
* * * * *
622.5(a)(1)(vii) | -0591
* * * * * |

50 CFR Chapter VI

PART 622—FISHERIES OF THE CARIBBEAN, GULF, AND SOUTH ATLANTIC

3. The authority citation for part 622 continues to read as follows:

Authority: 16 U.S.C. 1801 et seq.

4. In § 622.4, in the first sentence of paragraph (g)(1), the words “commercial vessel permit for South Atlantic rock shrimp” are removed and the words “Commercial Vessel Permit for Rock Shrimp (South Atlantic EEZ)” are added in their place, and paragraph (a)(2)(viii) is revised to read as follows:

§ 622.4 Permits and fees.

(a) * * *

(2) * * *

(viii) South Atlantic rock shrimp. (A) Until January 27, 2010, the permit requirements specified in paragraphs (a)(2)(viii)(A)(1) and (2) of this section apply.

(1) For a person aboard a vessel to fish for rock shrimp in the South Atlantic EEZ or possess rock shrimp in or from the South Atlantic EEZ, a commercial vessel permit for rock shrimp must be issued to the vessel and must be on board. (See paragraph (a)(5) of this section for the requirements for operator permits for the South Atlantic rock shrimp fishery.)

(2) In addition, for a person aboard a vessel to fish for rock shrimp in the South Atlantic EEZ off Georgia or off Florida or possess rock shrimp in or from the South Atlantic EEZ off Georgia or off Florida, a limited access endorsement for South Atlantic rock shrimp must be issued to the vessel and must be on board. See § 622.19 for limitations on the issuance, transfer, renewal, and reissuance of a limited access endorsement for South Atlantic rock shrimp.

(B) During January 2010, and prior to January 26, 2010, a currently valid (not expired) commercial vessel permit for rock shrimp with an expiration date after January 27, 2010, that does not have a limited access endorsement for South Atlantic rock shrimp will be replaced by the RA with a Commercial Vessel Permit for Rock Shrimp (Carolinas Zone), and a currently valid (not expired) commercial vessel permit for rock shrimp with an expiration date after January 27, 2010, that has a limited access endorsement for South Atlantic rock shrimp will be replaced by the RA with a Commercial Vessel Permit for Rock Shrimp (South Atlantic EEZ). However, a person with an expired limited access endorsement for South Atlantic rock shrimp who desires a Commercial Vessel Permit for Rock Shrimp (South Atlantic EEZ) must apply for such a permit before the date 1 year after the expiration date of the expired limited access endorsement for South Atlantic rock shrimp.

(C) On and after January 27, 2010, the permit requirements specified in paragraphs (a)(2)(viii)(C)(1) and (2) of this section apply.

(1) For a person aboard a vessel to fish for rock shrimp in the South Atlantic EEZ off North Carolina or off South Carolina or possess rock shrimp in or from the South Atlantic EEZ off those states, a Commercial Vessel Permit for Rock Shrimp (Carolinas Zone) or a Commercial Vessel Permit for Rock Shrimp (South Atlantic EEZ) must be issued to the vessel and must be on board.

(2) For a person aboard a vessel to fish for rock shrimp in the South Atlantic EEZ off Georgia or off Florida or possess rock shrimp in or from the South Atlantic EEZ off those states, a Commercial Vessel Permit for Rock Shrimp (South Atlantic EEZ) must be issued to the vessel and must be on board. A Commercial Vessel Permit for Rock Shrimp (South Atlantic EEZ) is a limited access permit. See § 622.19(b) for limitations on the issuance, transfer or renewal of a Commercial Vessel Permit for Rock Shrimp (South Atlantic EEZ).

(D) The provisions of paragraph (f) of this section notwithstanding, neither a commercial vessel permit for rock shrimp nor a limited access endorsement for South Atlantic rock shrimp remains valid on or after January 27, 2010.

5. In § 622.5, paragraph (a)(1)(vii) is revised to read as follows:

§ 622.5 Recordkeeping and reporting.

(a) * * *

(1) * * *

(vii) South Atlantic shrimp. The owner or operator of a vessel that fishes for shrimp in the South Atlantic EEZ or in adjoining state waters, or that lands shrimp in an adjoining state, must provide information for any fishing trip, as requested by the SRD, including, but not limited to, vessel identification, gear, effort, amount of shrimp caught by species, shrimp condition (heads on/heads off), fishing areas and depths, and person to whom sold.

6. In § 622.6, the heading for paragraph (b)(1)(i)(B) is revised to read as follows:

§ 622.6 Vessel and gear identification.

(b) * * *

(1) * * *

(i) * * *

(B) South Atlantic EEZ. * * *

7. In § 622.9, the first sentence of paragraph (a)(1) is revised to read as follows:

§ 622.9 Vessel monitoring systems (VMSs).

(a) Requirements for use of a VMS—(1) South Atlantic rock shrimp. An owner or operator of a vessel that has been issued a limited access endorsement for South Atlantic rock shrimp or a Commercial Vessel Permit for Rock Shrimp (South Atlantic EEZ) must ensure that such vessel has an operating VMS approved by NMFS for use in the South Atlantic rock shrimp fishery on board when on a trip in the South Atlantic. * * *

8. § 622.19 is revised to read as follows:

§ 622.19 South Atlantic rock shrimp limited access off Georgia and Florida.

(a) Initial applicability. (1) The measures in paragraph (a) of this section are applicable on November 2, 2009 through January 26, 2010.

(2) For a person aboard a vessel to fish for rock shrimp in the South Atlantic EEZ off Georgia or off Florida or possess rock shrimp in or from the South Atlantic EEZ off Georgia or off Florida, a limited access endorsement for South Atlantic rock shrimp must be issued to the vessel and must be on board.

(3) A limited access endorsement for South Atlantic rock shrimp is valid only for the vessel and owner named on the permit/endorsement. To change either the vessel or the owner, a complete application for transfer must be submitted to the RA. An owner of a vessel with an endorsement may request that the RA transfer the endorsement to another vessel owned by the same entity, to the same vessel owned by another entity, or to another vessel with another owner. A transfer of an endorsement under this paragraph will include the transfer of the vessel's entire catch history of South Atlantic rock shrimp to a new owner; no partial transfers are allowed. No transfer of a limited access endorsement for South Atlantic rock shrimp will be allowed after November 2, 2009.

(4) The RA will not reissue a limited access endorsement for South Atlantic rock shrimp if the endorsement is revoked or if the RA does not receive a complete application for renewal of the endorsement within 1 year after the endorsement's expiration date.

(b) Subsequent applicability. (1) The measures in paragraph (b) of this section are applicable on and after January 27, 2010.

(2) For a person aboard a vessel to fish for rock shrimp in the South Atlantic EEZ off Georgia or off Florida or possess rock shrimp in or from the South Atlantic EEZ off those states, a Commercial Permit for Rock Shrimp (South Atlantic EEZ) must be issued to the vessel and must be on board.

(3) Applications. No applications for additional Commercial Vessel Permits for Rock Shrimp (South Atlantic EEZ) will be accepted, except as follows:

(i) Failure to renew. An owner of a vessel may apply for a Commercial Vessel Permit for Rock Shrimp (South Atlantic EEZ) and such permit will be issued provided the owner,

(A) Had a limited access endorsement for South Atlantic rock shrimp;

(B) Failed to request renewal of his or her endorsement within 1 year after the endorsement's expiration date; and

(C) Renewed his or her commercial vessel permit for rock shrimp within 1 year after its expiration date.

(ii) Inactive endorsement. An owner of a vessel may apply for a Commercial Vessel Permit for Rock Shrimp (South Atlantic EEZ) and such permit will be issued provided the owner,

(A) Has a commercial vessel permit for rock shrimp;

(B) Had a limited access endorsement for South Atlantic rock shrimp and;

(C) Was unable to renew the endorsement because the endorsement was “inactive” for a period of 4 consecutive calendar years. “Inactive” means that the vessel with the endorsement did not land at least 15,000 lb (6,804 kg) of rock shrimp from the South Atlantic EEZ in a calendar year.

(iii) Application period. Applications under paragraph (b)(3) of this section must be received by NMFS by January 27, 2011.

(iv) Continuity of ownership. An applicant who believes he or she meets the permit eligibility criteria based on ownership of a vessel under a different name, as may have occurred when ownership has changed from individual to corporate or vice versa, must document his or her continuity of ownership.

(c) Transfer of an existing permit. A Commercial Vessel Permit for Rock Shrimp (South Atlantic EEZ) is valid only for the vessel and owner named on the permit. To change either the vessel or the owner, a complete application for transfer must be submitted to the RA. An owner of a vessel with a permit may request that the RA transfer a valid permit to another vessel owned by the same entity, to the same vessel owned by another entity, or to another vessel with another owner. A transfer of a permit under this paragraph will include the transfer of the vessel's entire catch history of South Atlantic rock shrimp to a new owner; no partial transfers are allowed.

(d) Renewal. The RA will not reissue a Commercial Vessel Permit for Rock Shrimp (South Atlantic EEZ) if the permit is revoked or if the RA does not receive an application for renewal of the permit within 1 year after the expiration date of the permit.

(e) Limitation on permits. A vessel for which a permit for South Atlantic rock shrimp is required may be issued either a Commercial Vessel Permit for Rock Shrimp (Carolinas Zone) or a Commercial Vessel Permit for Rock Shrimp (South Atlantic EEZ), depending on its eligibility. However, no such vessel may be issued both permits for the same period of effectiveness.

9. In § 622.34, a heading is added to paragraph (k)(1) to read as follows:

§ 622.34 Gulf EEZ seasonal and/or area closures.

(k) * * *

(1) Descriptions of Areas. * * *

10. In § 622.41, paragraphs (a)(4)(i)—(a)(4)(iii) are added to read as follows:

§ 622.41 Species specific limitations.

(a) * * *

(4) * * *

(i) Permit number of site to be harvested and date of harvest.

(ii) Name and official number of the vessel to be used in harvesting.

(iii) Date, port, and facility at which aquacultured live rock will be landed.

[FR Doc. E9-23703 Filed 9-30-09; 8:45 am]

BILLING CODE 3510-22-S